POSTAL SERVICE

Privacy Act of 1974, System of Records

AGENCY: Postal Service.

ACTION: Notice of new system of records.

SUMMARY: This document publishes notice of a new Privacy Act system of records, USPS 050.080, Finance Records-Suspicious Transaction Reports. The new system contains personal information about postal customers who purchase or receive money orders, wire transfers, or stored value cards in a manner considered to be suspicious according to the provisions of the Bank Secrecy Act, 31 U.S.C. 5311 et seq.

DATES: Any interested party may submit written comments on the new system of records. This system will become effective without further notice February 5, 2001 unless comments received on or before this date result in a contrary determination.

ADDRESSES: Written comments on this notice should be mailed or delivered to Finance Administration/FOIA, United States Postal Service, 475 L'Enfant Plaza SW, RM 8141, Washington, DC 20260-5202. Copies of all written comments will be available at the above address for public inspection and photocopying between 8 a.m. and 4:45 p.m., Monday through Friday.

FOR FURTHER INFORMATION CONTACT: Henry Gibson (202) 268-4203.

SUPPLEMENTARY INFORMATION: The Postal Service will collect and maintain information about some of its customers to meet one of the requirements of the Federal Bank Secrecy Act. That law is designed to detect and deter money laundering. The intent of the law is to require banks and money services businesses to obtain, maintain, and/or report to the Department of Treasury certain identifying information about individuals who purchase financial instruments in a manner that raises a good faith suspicion of violation of laws and regulations dealing with money laundering pursuant to the provisions of the Bank Secrecy Act. The Postal Service is named as an entity that must comply with that law (31 U.S.C. 5312(a)(2)(V)). The Postal Service will maintain information about a purchaser of money orders, wire transfers, or stored value cards if a Postal Service employee knows, or has a good faith reason to believe, that the purchaser is involved in activity that might be in violation of law or regulation. The Postal Service is establishing this group of records as a system of records subject to the Privacy Act.

Computer and printed records are maintained in a secured computer complex, with physical, administrative, and software controls. Access to areas within the complex where these records are maintained is restricted with card keys. Access within the area is further restricted to authorized personnel with an official need to know.

Pursuant to 5 U.S.C. 552a(e)(11), interested persons are invited to submit written data, views, or arguments on this notice. A report of the following proposed system has been sent to Congress and to the Office of Management and Budget for their evaluation.

USPS 050.080

SYSTEM NAME:

Finance Records-Suspicious Transaction Reports, 050.080

SYSTEM LOCATION:

Finance, Headquarters, and St. Louis BSA Support Group, St. Louis, Missouri.

CATEGORIES OF INDIVIDUALS COVERED BY THE SYSTEM:

Postal Service customers who purchase money orders, wire transfers, or stored value cards in a suspicious manner under the provisions of the Bank Secrecy Act, 31 U.S.C. 5311, et seq.

CATEGORIES OF RECORDS IN THE SYSTEM:

Name, address, Social Security number, alien registration number, tax identification number, passport number, date of birth, photo identification number and type (e.g., driver's license, passport, military ID), bank account number, and amount of transaction are collected on PS Form 8105-B. Regulations under the Bank Secrecy Act require that customer's identifying information, including the customer's Social Security number, be collected.

AUTHORITY FOR MAINTENANCE OF THE SYSTEM:

31 U.S.C. 5318(g)(1).

PURPOSE(S):

Under the provisions of the Bank Secrecy Act, the system will be used to obtain and maintain identifying information on Postal Service customers who purchase money orders, wire transfers, or stored value cards in a manner raising a good faith suspicion of money laundering and to comply with the reporting requirements of the Bank Secrecy Act.

ROUTINE USES OF RECORDS MAINTAINED IN THE SYSTEM, INCLUDING CATEGORIES OF USERS AND THE PURPOSE OF SUCH USES:

General routine use statements a, b, c, d, e, f, g, h, and j listed in the prefatory statement at the beginning of the Postal Service's published system notices apply to this system. Other routine uses follow:

1. Information may be disclosed to the U.S. Department of Treasury, the U.S. Justice Department, and federal law enforcement agencies pursuant to the provisions of the Federal Bank Secrecy Act, as codified in section 5318 of Title 31 of the U.S. Code.

2. Information from this system may be disclosed to a foreign entity under agreement with the Postal Service to distribute money orders and transfer funds.

POLICIES AND PRACTICES FOR STORING, RETRIEVING, ACCESSING, RETAINING, AND DISPOSING OF RECORDS IN THE SYSTEM STORAGE:

Paper and computer storage media.

RETRIEVABILITY:

By name and other unique identifier.

SAFEGUARDS:

Printed records and computers containing information within this system of records are maintained in a building with controlled access. To gain access to the building and access to controlled areas within the building, individuals must have authorized badges and/or card keys. Computer systems are protected with an installed security software package, the use of computer log-on IDs, and operating system controls.

RETENTION AND DISPOSAL:

PS Forms 8105-B will be destroyed either by shredding, burning, or other acceptable method of destruction five (5) years from the end of the accounting period in which they were created. Related automated information will be retained for the same period and purged from the system quarterly after the date of creation.

SYSTEM MANAGER(S) AND ADDRESS:

Chief Financial Officer, Finance, U.S. Postal Service, 475 L'Enfant Plaza SW, Washington, DC 20260-5000.

NOTIFICATION PROCEDURE:

While the Privacy Act provides for the release of certain information, the portion of the Bank Secrecy Act dealing with suspicious activity states a financial institution (in this case the Postal Service) may not notify any person involved in the suspicious transaction that the transaction has been reported (31 U.S.C. 5318(g)(2)). Therefore, it would be contrary to the statutory mandates concerning collection of this information to provide notification thereof. It is the Postal Service's understanding that the “non-notification” clause in the Bank Secrecy Act supercedes the provision for the release of information in the Privacy Act. Therefore, this system has been exempted from the notification, access, and amendment requirements of the Privacy Act by regulation set out as 39 CFR 266.9.

RECORD ACCESS PROCEDURES:

See Notification Procedure above.

CONTESTING RECORD PROCEDURES:

See Notification Procedures above.

RECORD SOURCE CATEGORIES:

Information resident in this system of records is provided through transaction analysis and by postal employees in accordance with the provisions of the Bank Secrecy Act.

SYSTEM EXEMPTED FROM CERTAIN PROVISIONS OF THE ACT:

The Postal Service has established regulations at 39 CFR 266.9 that exempt information contained in this system of records from various provisions of the Privacy Act in order to conform to the prohibition in the Bank Secrecy Act, 31 U.S.C. 5318(g)(2), against notification of the individual that a suspicious transaction has been reported.

Stanley F. Mires,
Chief Counsel, Legislative.

[FR Doc. 00-32961 Filed 12-26-00; 8:45 am]

BILLING CODE 7710-12-P